DEPARTMENT OF HEALTH AND HUMAN SERVICES

National Institutes of Health

Submission for OMB Review; 30-Day Comment Request; National Institutes of Health (NIH) Loan Repayment Programs, (Office of the Director)

AGENCY: National Institutes of Health, HHS.

ACTION: Notice.

SUMMARY: In compliance with the Paperwork Reduction Act of 1995, the National Institutes of Health (NIH) has submitted to the Office of Management and Budget (OMB) a request for review and approval of the information collection listed below.

DATES: Comments regarding this information collection are best assured of having their full effect if received within 30-days of the date of this publication.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: To request more information on the proposed project or to obtain a copy of the data collection plans and instruments, contact: Matthew Lockhart, Director, Division of Loan Repayment, National Institutes of Health, 6700B Rockledge Dr., Room 2300 (MSC 6904), Bethesda, Maryland 20892-6904 or email your request, including your address to matthew.lockhart@nih.gov or call (240) 380-3062. Formal requests for additional plans and instruments must be requested in writing.

SUPPLEMENTARY INFORMATION: This proposed information collection was previously published in the Federal Register on May 25, 2022, page numbers 31896-31897 (87 FR 31896) and allowed 60 days for public comment. No public comments were received. The purpose of this notice is to allow an additional 30 days for public comment. The NIH may not conduct or sponsor, and the respondent is not required to respond to, an information collection that has been extended, revised, or implemented on or after October 1, 1995, unless it displays a currently valid OMB control number.

Proposed Collection: Loan Repayment Programs (LRP), 0925-0361, expiration date 10/31/22, EXTENSION, Office of the Director (OD), National Institutes of Health.

Need and Use of Information Collection: The NIH makes available financial assistance, in the form of educational loan repayment, to M.D., Ph.D., Pharm.D., Psy.D., D.O., D.D.S., D.M.D., D.P.M., DC, N.D., O.D., D.V.M, or equivalent doctoral degree holders who perform biomedical or behavioral research in NIH intramural laboratories or as extramural grantees or scientists funded by domestic non-profit organizations for a minimum of two years (three years for the General Research subcategory) in research areas supporting the mission and priorities of the NIH. The information proposed for collection will be used by the DLR to determine an applicant's eligibility for the program.

OMB approval is requested for three years. There are no costs to respondents other than their time. The total estimated annualized burden hours are 23,952.

Estimated Annualized Burden Hours
Type of respondent | Number of respondents | Number of responses per respondent | Average time per response (in hours) | Total annual burden hours
Initial Extramural Applicants | 1,300 | 1 | 8 | 10,400
Renewal Extramural Applicants | 1,000 | 1 | 8 | 8,400
Initial Intramural Applicants | 40 | 1 | 8 | 320
Renewal Intramural Applicants | 40 | 1 | 8 | 320
Recommenders | 9,300 | 1 | 30/60 | 4,680
Institutional Contacts | 2,300 | 1 | 5/60 | 192
NIH LRP Coordinators | 80 | 1 | 30/60 | 40
Total | 14,120 | 14,120 |  | 23,952

Dated: August 22, 2022.
Tara A. Schwetz,
Acting Principal Deputy Director, National Institutes of Health.

[FR Doc. 2022-18592 Filed 8-29-22; 8:45 am]

BILLING CODE 4140-01-P